DEPARTMENT OF HOMELAND SECURITY

Coast Guard

Draft Programmatic Environmental Impact Statement for Vessel and Facility Response Plans for Oil: 2003 Removal Equipment Requirements and Alternative Technology Revisions

AGENCY: Coast Guard, DHS.

ACTION: Notice of availability and request for public comments.

SUMMARY: The Coast Guard announces the availability of the Draft Programmatic Environmental Impact Statement (DPEIS) for the rulemaking on Vessel and Facility Response Plans for Oil; 2003 Removal Equipment Requirements and Alternative Technology Revisions. The DPEIS addresses the increase of the oil removal capacity (caps) requirements for tank vessels and marine transportation-related (MTR) facilities and added requirements for new response technologies. We are requesting public comments on this DPEIS. The Environmental Protection Agency published a notice of receipt of this DPEIS on May 27, 2005 (70 FR 30719).

DATES: Comments and related material must reach the Docket Management Facility on or before August 1, 2005.

ADDRESSES: You may submit comments identified by Coast Guard docket number USCG-2000-7833 to the Docket Management Facility at the U.S. Department of Transportation. To avoid duplication, please use only one of the following methods:

(1) Web Site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

FOR FURTHER INFORMATION CONTACT: If you have questions on this notice, call Bradley McKitrick, Coast Guard, telephone 202-267-0995, or email bmckitrick@comdt.uscg.mil. If you have questions on viewing or submitting material to the docket, call Andrea M. Jenkins, Program Manager, Docket Operations, telephone 202-366-0271.

SUPPLEMENTARY INFORMATION:

Request for Comments

All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2000-7833) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

We are requesting your comments on environmental concerns you may have related to the DPEIS. We will publish comments received during the DPEIS review period in the final PEIS. We will publish a notice of availability of the final PEIS in the Federal Register. Comments on the proposed regulations will not be accepted as the comment period is closed (67 FR 63331).

Viewing comments and documents: To view comments or the DPEIS, go to http://dms.dot.gov at any time and conduct a simple search using the docket number. You may also visit the Docket Management Facility in room PL-401 on the Plaza level of the Nassif Building, 400 Seventh Street SW., Washington, DC, between 9 a.m. and 5 p.m., Monday through Friday, except Federal holidays. An electronic copy of the DPEIS may be viewed or downloaded from the Coast Guard Web site at http://www.uscg.mil/hq/g-m/regs/PEIS/peisindex.html. If you would like to obtain a copy of the DPEIS on CD-ROM, contact Brad McKitrick at the telephone number or email listed in FOR FURTHER INFORMATION CONTACT.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Meetings

The Coast Guard plans to hold public meetings which will be announced in a later notice to the Federal Register.

Background and Purpose

The Coast Guard proposes changes to its requirements for oil-spill removal equipment under tank vessel response plans and MTR facility response plans (33 CFR 154 and 33 CFR 155). These changes would increase the available spill removal equipment required for tank vessels and MTR facilities, add requirements for new response technologies, and clarify methods and procedures for responding to oil spills in coastal waters. The Coast Guard examined and assessed the environmental impact of the proposed regulatory change of five alternatives considered in the DPEIS. The first alternative was no action, whereby no changes would be implemented in response plan regulations. The second alternative was an increase of on-water mechanical recovery capability. The third alternative was an increase of on-water mechanical recovery capability, which would establish on-water dispersant application capability (Option A), and establish in situ burn credit. The fourth alternative was to increase on-water mechanical recovery capability, establish on-water dispersant application capability (Option B), and establish in situ burn credit. The fifth alternative was to maintain on-water mechanical recovery capability at current levels, establish on-water dispersant application capability (Option B), and establish in situ burn credit.

To gain additional information regarding the criteria that was utilized for the environmental analysis in the DPEIS, the Coast Guard published a Notice of Intent and Request for Public Comments on November 9, 2000 (65 FR 67441). That notice can be viewed in the Docket Management System under Docket Number USCG-2000-7833.

Dated: May 19, 2005.
B.R. Emond,
Acting Director of Standards, Marine Safety, Security, and Environmental Protection, , U.S. Coast Guard.

[FR Doc. 05-10972 Filed 5-27-05; 1:06 pm]

BILLING CODE 4910-15-P